DEPARTMENT OF LABOR

Employment and Training Administration

[TA-W-59,150]

Demetron Kerr, Danbury, CT; Notice of Termination of Investigation

Pursuant to section 221 of the Trade Act of 1974, as amended, an investigation was initiated on April 4, 2006 in response to a worker petition filed by a single worker on behalf of workers at Demetron Kerr, Danbury, Connecticut.

The petition regarding the investigation has been deemed invalid. Valid petitions must be filed by three or more workers, by a duly authorized representative of such workers, by employers of such workers, by one-stop operators, or by one-stop partners. Consequently, the investigation has been terminated.

Signed at Washington, DC, this 17th day of April 2006.
Richard Church,
Certifying Officer, Division of Trade Adjustment Assistance.

[FR Doc. E6-6848 Filed 5-4-06; 8:45 am]

BILLING CODE 4510-30-P